DEPARTMENT OF VETERANS AFFAIRS

Geriatric and Gerontology Advisory Committee; Notice of Meeting

The Department of Veterans Affairs (VA) gives notice under the Federal Advisory Committee Act, 5 U.S.C. App.2, that a meeting of the Geriatric and Gerontology Advisory Committee will be held on Thursday, April 27, 2021 and Friday, April 28, 2021, from 12:00 p.m. to 4:00 p.m. (Eastern Daylight Time) on both days. This meeting will be virtual and open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

Although no time will be allocated for receiving oral presentations from the public, members of the public may submit written statements for review by the Committee to: Marianne Shaughnessy, CRNP, Ph.D., Designated Federal Officer, Veterans Health Administration by email at Marianne.Shaughnessy@va.gov. Comments will be accepted until close of business on April 15, 2021. In the communication, the writers must identify themselves and state the organization, association of person(s) they represent.

Any member of the public wishing to attend virtually or seeking additional information should email Marianne.Shaughnessy@va.gov or call 202-407-6798, no later than close of business on April 15, 2021 to provide their name, professional affiliation, email address and phone number. For any members of the public that wish to attend virtually, they may use the WebEx link for April 27, 2021: https://veteransaffairs.webex.com/veteransaffairs/j.php?MTID=ma20c0aba509a49bec0ffc0fdabbe71d7, meeting number (access code): 199 056 7211, meeting password: sgQzubd?893 or April 28, 2021: https://veteransaffairs.webex.com/veteransaffairs/j.php?MTID=m5901df6b033683a7ade169c399cb083f, meeting number (access code): 199 832 3835, meeting password: Zuvd32Rjh@7, or to join by phone either day: 1-404-397-1596.

Dated: February 17, 2021.
LaTonya L. Small,
Federal Advisory Committee Management Officer.

[FR Doc. 2021-03605 Filed 2-22-21; 8:45 am]

BILLING CODE P